DEPARTMENT OF THE INTERIOR

National Park Service

Notice of Extension of Concession Contracts

AGENCY: National Park Service, Interior.

ACTION: Public Notice.

EFFECTIVE DATE: January 1, 2008.

FOR FURTHER INFORMATION CONTACT: Jo A. Pendry, Concession Program Manager, National Park Service, Washington, DC, 20240, Telephone 202/513-7156.

SUMMARY: Pursuant to 36 CFR 51.23, public notice is hereby given that the National Park Service proposes to extend the following expiring concession contracts for a period of up to 1 year, or until such time as a new contract is executed, whichever occurs sooner.

SUPPLEMENTARY INFORMATION: All of the listed concession authorizations will expire by their terms on or before December 31, 2007. The National Park Service has determined that the proposed short-term extensions are necessary in order to avoid interruption of visitor services and has taken all reasonable and appropriate steps to consider alternatives to avoid such interruption.

Conc ID number | Concessioner name | Park
GLAC002-81 | Glacier Park, Inc | Glacier National Park.
GLCA002-88 | ARAMARK | Glen Canyon National Recreation Area.
GRTE004-98 | Triangle X Ranch, LLP | Grand Teton National Park.
YELL001-03 | Medcor, Inc | Yellowstone National Park.
NACE006-88 | Casco Marina Development, LLC | National Capital Parks—East.
NACC004-89 | Landmark Services Tourmobile, Inc | National Capital Parks—Central.
CALO005-07 | Morris Marina, Kabin Kamps & Ferry Service, Inc | Cape Lookout National Seashore.
GRSM001-07 | Cades Cove Campground Store, Inc | Great Smoky Mountains National Park.
CHIS001-98 | Island Packers, Inc | Channel Islands National Park.
LARO00-92 | Dakota Columbia Rentals | Lake Roosevelt National Recreation Area.
YOSE003-88 | Vaughn, Vaughn & Carter, dba EL Portal Market | Yosemite National Park.
GRBA001-98 | Raven's Roost, Inc | Great Basin National Park.
VOYA002-96 | Kettle Falls Hotel | Voyageurs National Park.
FIIS003-98 | Sayville Ferry Service, Inc | Fire Island National Seashore.
FIIS004-02 | Davis Park Ferry Company, Inc | Fire Island National Seashore.
GATE003-98 | Marinas of the Future, Inc | Gateway National Recreation Area.
STLI003-89 | ARAMARK Sports & Entertainment Services, Inc | Statue of Liberty National Monument.

FOR FURTHER INFORMATION CONTACT: Jo A. Pendry, Concession Program Manager, National Park Service, Washington, DC, 20240, Telephone 202/513-7156.

Dated: November 26, 2007.
Katherine H. Stevenson,
Acting Assistant Director, Business Services.

[FR Doc. 08-407 Filed 1-29-08; 8:45 am]

BILLING CODE 4310-53-M